DEPARTMENT OF HOUSING AND URBAN DEVELOPMENT

[Docket No. FR-5621-FA-01]

Announcement of Funding Awards for the HUD-Veterans Affairs Supportive Housing (HUD-VASH) Program for Fiscal Years (FY) 2011

AGENCY: Office of the Assistant Secretary for Public and Indian Housing, HUD.

ACTION: Announcement of Funding Awards.

SUMMARY: In accordance with Section 102(a)(4)(C) of the Department of Housing and Urban Development Reform Act of 1989, this announcement notifies the public of funding decisions made by the Department for funding under the FY 2011 HUD-VASH program. This announcement contains the consolidated names and addresses of those award recipients selected for funding under the Department of Defense and Full-Year Continuing Appropriations Act, 2011 (“2011 Appropriations Act”).

FOR FURTHER INFORMATION CONTACT: Michael S. Dennis, Director, Housing Voucher Programs, Office of Public and Indian Housing, Department of Housing and Urban Development, 451 Seventh Street SW., Room 4228, Washington, DC 20410, telephone number 202-402-4059. For the hearing or speech impaired, this number may be accessed via TTY (text telephone) by calling the Federal Relay Service at telephone number 800-877-8339. (Other than the “800” TTY number, these telephone numbers are not toll-free.)

SUPPLEMENTARY INFORMATION: The 2011 Appropriations Act made $50 million available for HUD-VASH, an initiative that combines HUD Housing Choice Voucher (HCV) rental assistance for homeless veterans with case management and clinical services provided by the Department of Veterans Affairs (VA) at its medical centers and in the community. The HCV program is authorized under section 8(o)(19) of the United States Housing Act of 1937. The 2011 Appropriations Act requires HUD to distribute assistance without competition, to public housing agencies (PHAs) that partner with eligible Veterans Affairs Medical Centers (VAMCs) or other entities as designated by the VA. As required by statute, selection was based on geographical need for such assistance as identified by the VA, public housing agency performance, and other factors as specified by HUD in consultation with the VA. On May 6, 2008 (73 FR 25026), HUD published in the Federal Register a notice that set forth the policies and procedures for the administration of tenant-based Section 8 HCV rental assistance under the HUD-VASH program administered by local PHAs that have partnered with local VA medical centers. On May 19, 2008 (73 FR 28863), HUD corrected the May 6, 2008 notice.

As required by the FY 2011 Appropriations Act, the VA identified VAMCs to participate in the program taking into account the population of homeless veterans needing services in the area, the number of homeless veterans recently served by the homeless programs at each VAMC, geographic distribution, and the VA's case management resources. After considering location and administrative performance of PHAs in the jurisdiction of each VAMC, HUD invited PHAs to apply for HUD-VASH vouchers. Also, with the broad flexibility under the FY 2011 Appropriations Act to address the needs of homeless veterans, the Department decided to fund three additional PHAs under HUD Notice, PIH 2010-40 (Set-Aside Funding Availability for Project-Basing HUD-VASH Vouchers). This allowed the Department to fund those PHAs that achieved the same number of points as other selected applications, but that were not originally selected through the lottery process. Those PHAs are: (1) Providence (RI) Housing Authority; (2) Tallahassee (FL) Housing Authority; and (3) Washington (DC) Housing Authority.

In accordance with Section 102(a)(4)(C) of the Department of Housing and Urban Development Reform Act of 1989 (42 U.S.C. 3545), today's Federal Register publication lists in Appendix A the names, addresses, number of vouchers and amounts of the 182 PHAs to which awards were made under the FY2011 HUD-VASH initiative. Appendix B lists the names, addresses, number of vouchers and amounts awarded to the 3 additional PHAs that were funded under the HUD-VASH set-aside.

Dated: February 13, 2012.
Sandra B. Henriquez,
Assistant Secretary for Public and Indian Housing.

APPENDIX A

2011 VASH Recipients
Recipient | Address | City | State | Zip code | Amount | Vouchers
Alaska Housing Finance Corporation | PO Box 101020 | Anchorage | AK | 99510 | $349,470 | 50
Housing Authority of the Birmingham District | 1826 3rd Avenue S | Birmingham | AL | 35233 | 239,328 | 50
Housing Authority of the City of Montgomery | 525 South Lawrence | Montgomery | AL | 36104 | 283,470 | 50
The Housing Authority of the City of Huntsville | 200 Washington Street NE | Huntsville | AL | 35804 | 84,762 | 25
HA Tuscaloosa | 2117 Jack Warner Parkway | Tuscaloosa | AL | 35401 | 96,333 | 25
North Little Rock Housing Authority | 2201 Division | North Little Rock | AR | 72114 | 88,206 | 25
City of Phoenix Housing Department | 251 W Washington Street, Floor 4 | Phoenix | AZ | 85003 | 930,060 | 150
Housing and Community Development Tucson | 310 N. Commerce Park Loop | Tucson | AZ | 85745 | 508,044 | 100
Arizona Department of Housing | 1110 West Washington Street, Suite 310 | Phoenix | AZ | 85007 | 131,085 | 25
San Francisco Housing Authority | 440 Turk Street | San Francisco | CA | 94102 | 349,218 | 25
Housing Authority of the County of Los Angeles | 2 S Coral Circle | Monterey Park | CA | 91755 | 867,996 | 100
Oakland Housing Authority | 1619 Harrison St. | Oakland | CA | 94612 | 498,696 | 50
Housing Authority of the City of Los Angeles | 2600 Wilshire Blvd | Los Angeles | CA | 90057 | 1,851,912 | 200
Housing Authority City of Fresno | 1331 Fulton Mall | Fresno | CA | 93721 | 146,127 | 25
County of Sacramento Housing Authority | 801 12th Street | Sacramento | CA | 95814 | 176,844 | 25
Housing Authority of the County of Kern | 601-24th Street | Bakersfield | CA | 93301 | 129,879 | 25
Housing Authority of the County of San Mateo | 264 Harbor Boulevard, Building A | Belmont | CA | 94002 | 668,580 | 50
Housing Authority of the County of San Bernardino | 715 E. Brier Dr | San Bernardino | CA | 92408 | 168,903 | 25
Housing Authority of the County of Santa Barbara | 815 W Ocean Avenue | Lompoc | CA | 93436 | 478,194 | 50
Housing Authority of the County of Riverside | 5555 Arlington Avenue | Riverside | CA | 92504 | 204,507 | 25
County of Monterey Hsg Auth | 123 Rico Street | Salinas | CA | 93907 | 190,161 | 25
Housing Authority of the City of San Buenaventura | 995 Riverside Street | Ventura | CA | 93001 | 198,591 | 25
Housing Authority of the County Santa Clara | 505 W Julian Street | San Jose | CA | 95110 | 1,159,500 | 100
City of Pittsburg Hsg Auth | 916 Cumberland Street | Pittsburg | CA | 94565 | 238,881 | 25
San Diego Housing Commission | 1122 Broadway Suite 300 | San Diego | CA | 92101 | 639,468 | 75
Housing Authority of the City of San Luis Obispo | 487 Leff Street | San Luis Obispo | CA | 93401 | 196,200 | 25
City of Long Beach Housing Authority | 521 East 4th Street | Long Beach | CA | 90802 | 457,788 | 50
Santa Cruz County Hsg Auth | 2931 Mission Street | Santa Cruz | CA | 95060 | 280,395 | 25
County of Humboldt Hsg Auth | 735 West Everding Street | Eureka | CA | 95503 | 142,572 | 25
City of Santa Rosa | 90 Santa Rosa Ave. | Santa Rosa | CA | 95402 | 206,565 | 25
Orange County Housing Authority | 1770 North Broadway | Santa Ana | CA | 92706 | 927,747 | 75
Housing Authority of the County of San Diego | 3989 Ruffin Road | San Diego | CA | 92123 | 361,104 | 50
Housing Authority of the City and County of Denver | 777 Grant Street | Denver | CO | 80203 | 334,764 | 50
Housing Authority of the City of Pueblo | 1414 N. Santa Fe Ave., 10th Floor | Pueblo | CO | 81003 | 119,364 | 25
Grand Junction Housing Authority | 1011 North Tenth Street | Grand Junction | CO | 81501 | 119,187 | 25
Colorado Department of Human Services | 4020 South Newton St. | Denver | CO | 80236 | 137,637 | 25
Colorado Division of Housing | 1313 Sherman Street, Room 500 | Denver | CO | 80203 | 167,187 | 25
Housing Authority of the City of Hartford | 180 Overlook Terrace | Hartford | CT | 06106 | 417,858 | 50
Waterbury Housing Authority | 2 Lakewood Road | Waterbury | CT | 06704 | 160,866 | 25
D.C. Housing Authority | 1133 N. Capitol Street, NE | Washington | DC | 20002 | 754,353 | 75
Wilmington Housing Authority | 400 N. Walnut Street | Wilmington | DE | 19801 | 86,125 | 15
Tampa Housing Authority | 1529 W Main Street | Tampa | FL | 33607 | 517,329 | 75
Orlando Housing Authority | 390 North Bumby Avenue | Orlando | FL | 32803 | 406,440 | 50
Miami-Dade Housing Agency | 701 NW 1st Court, 16th Floor | Miami | FL | 33136 | 498,528 | 50
Housing Authority of City of Daytona Beach | 211 N. Ridgewood Avenue, Ste 200 | Daytona Beach | FL | 32114 | 129,978 | 25
Sarasota Housing Authority | 40 South Pineapple Ave, Ste 200 | Sarasota | FL | 34236 | 141,324 | 25
West Palm Beach Housing Authority | 1715 Division Avenue | West Palm Beach | FL | 33407 | 354,858 | 50
Housing Authority of the City of Fort Lauderdale | 437 SW 4th Avenue | Fort Lauderdale | FL | 33315 | 248,478 | 25
Housing Authority of the City of Titusville | 524 S Hopkins Avenue | Titusville | FL | 32796 | 132,783 | 25
Pinellas County Housing Authority | 11479 Ulmerton Road | Largo | FL | 33778 | 522,765 | 75
Fort Walton Beach Housing Authority | 27 Robinwood Drive SW | Fort Walton Beach | FL | 32548 | 284,856 | 50
Alachua County Housing Authority | 703 NE 1st Street | Gainesville | FL | 32601 | 522,768 | 100
Housing Authority of the City of Augusta | 1435 Walton Way | Augusta | GA | 30901 | 111,837 | 25
Housing Authority of the City of Decatur | 750 Commerce Drive, Ste 110 | Decatur | GA | 30030 | 1,160,802 | 150
Housing Authority of the City of College Park | 2000 W. Princeton Avenue | College Park | GA | 30337 | 197,346 | 25
Hawaii Public Housing Authority | 1002 North School Street | Honolulu | HI | 96817 | 457,344 | 50
Des Moines Municipal Housing Agency | 100 East Euclid, Suite 101 | Des Moines | IA | 50313 | 118,029 | 25
Davenport Housing Commission | 501 W 3rd Street | Davenport | IA | 52801 | 81,517 | 15
Boise City Housing Authority | 1276 River Street, Ste 300 | Boise | ID | 83702 | 101,499 | 25
Chicago Housing Authority | 60 E. Van Buren St | Chicago | IL | 60605 | 612,000 | 75
Peoria Housing Authority | 100 S Richard Pryor Place | Peoria | IL | 61605 | 139,038 | 25
Grtr Metro. Area Hsng Auth of Rock Island County | 325 2nd Street | Silvis | IL | 61282 | 49,535 | 10
The Housing Authority of the City of Danville, IL | 1607 Clyman Lane | Danville | IL | 61832 | 86,367 | 25
Rockford Housing Authority | 223 S Winnebago Street | Rockford | IL | 61102 | 126,606 | 25
Housing Authority of the County of Cook | 175 W. Jackson, Ste 350 | Chicago | IL | 60604 | 353,202 | 50
Fort Wayne Housing Authority | 7315 South Hanna Street | Fort Wayne | IN | 46816 | 119,784 | 25
Indianapolis Housing Agency | 1919 North Meridian Street | Indianapolis | IN | 46202 | 122,175 | 25
Indiana Housing and Community Development Au | 30 S. Meridian St., Ste 1000 | Indianapolis | IN | 46204 | 127,419 | 25
Wichita Housing Authority | 332 Riverview Street | Wichita | KS | 67203 | 130,218 | 25
Manhattan Housing Authority | 300 No. 5th Street | Manhattan | KS | 66502 | 114,957 | 25
Leavenworth Housing Authority | 200 Shawnee Street | Leavenworth | KS | 66048 | 99,636 | 25
Louisville Metro Housing Authority | 420 S 8th Street | Louisville | KY | 40203 | 120,282 | 25
Housing Authority of Lexington | 300 West New Circle Road | Lexington | KY | 40505 | 105,585 | 25
Kentucky Housing Corporation-State Agency | 1050 US 127 South | Frankfort | KY | 40601 | 123,195 | 25
Housing Authority of New Orleans | 4100 Touro Street | New Orleans | LA | 70122 | 930,792 | 100
Housing Authority of the City of Kenner | 1013 31st Street | Kenner | LA | 70065 | 608,175 | 125
Housing Authority of Rapides Parish | 119 Boyce Garden Drive | Boyce | LA | 71409 | 198,234 | 50
Bossier Parish Section 8 | 3022 Old Minden Road, Suite 206 | Bossier City | LA | 71112 | 100,011 | 25
Boston Housing Authority | 52 Chauncy Street | Boston | MA | 02111 | 520,356 | 50
Cambridge Housing Authority | 675 Massachusetts Avenue | Cambridge | MA | 02139 | 350,721 | 25
Worcester Housing Authority | 40 Belmont Street | Worcester | MA | 01605 | 166,269 | 25
Northampton Housing Authority | 49 Old South Street | Northampton | MA | 01060 | 129,069 | 25
Braintree Housing Authority | 25 Roosevelt Street | Braintree | MA | 02184 | 309,462 | 25
Chelmsford Housing Authority | 10 Wilson Street | Chelmsford | MA | 01824 | 211,410 | 25
Department of Housing & Community Development | 100 Cambridge Street, Suite 300 | Boston | MA | 02114 | 486,276 | 50
Housing Authority of Baltimore City | 417 E Fayette Street | Baltimore | MD | 21202 | 767,412 | 75
Housing Opprty Com of Montgomery Co | 10400 Detrick Avenue | Kensington | MD | 20895 | 229,881 | 25
Housing Authority of Prince Georges County | 9400 Peppercorn Place, Suite 200 | Largo | MD | 20774 | 321,552 | 25
Baltimore County, MD | Drum Castle Government Center, 6401 York Road | Baltimore | MD | 21212 | 196,800 | 25
Maine State Housing Authority | 353 Water Street | Augusta | ME | 04330 | 87,620 | 15
Battle Creek Housing Commission | 250 Champion Street | Battle Creek | MI | 49037 | 99,048 | 25
Ann Arbor Housing Commission | 727 Miller Avenue | Ann Arbor | MI | 48103 | 120,420 | 25
Michigan State Housing Development Authority | 735 E. Michigan Avenue | Lansing | MI | 48912 | 806,700 | 125
Public Housing Agency of the City of St Paul | 555 N. Wabasha Street, Suite 400 | Saint Paul | MN | 55102 | 162,378 | 25
PHA in and for the City of Minneapolis | 1001 Washington Avenue N | Minneapolis | MN | 55401 | 298,128 | 50
HRA of St. Cloud, Minnesota | 1225 W. Saint Germain | Saint Cloud | MN | 56301 | 122,346 | 25
St. Louis Housing Authority | 3520 Page Boulevard | Saint Louis | MO | 63106 | 144,150 | 25
Housing Authority of Kansas City, Missouri | 301 E. Armour Blvd.—#200 | Kansas City | MO | 64111 | 140,577 | 25
The Housing Authority of the City of Jackson | 2747 Livingston Road | Jackson | MS | 39213 | 357,714 | 75
Housing Authority of Billings | 2415 1st Avenue N | Billings | MT | 59101 | 111,938 | 25
Montana Department of Commerce | 301 South Park Ave. | Helena | MT | 59620 | 105,489 | 25
Housing Authority of the City of Charlotte | 1301 South Boulevard | Charlotte | NC | 28203 | 368,472 | 50
Housing Authority of the City of Asheville | 165 S French Broad Ave. | Asheville | NC | 28801 | 257,970 | 50
Fayetteville Metropolitan Housing Authority | 1000 Ramsey Street | Fayetteville | NC | 28302 | 135,498 | 25
Housing Authority of the City of Greensboro | 450 N Church Street | Greensboro | NC | 27401 | 118,083 | 25
The Housing Authority of the City of Durham | 330 E Main Street | Durham | NC | 27701 | 182,406 | 25
Housing Authority of the County of Wake | 100 Shannon Drive | Zebulon | NC | 27597 | 149,913 | 25
Fargo Housing and Redevelopment Authority | 325 Broadway | Fargo | ND | 58102 | 52,396 | 15
Douglas County Housing Authority | 5404 N 107th Plaza | Omaha | NE | 68134 | 149,868 | 25
Manchester Housing & Redevelopment Authority | 198 Hanover Street | Manchester | NH | 03104 | 131,000 | 15
Housing Authority of the City of Camden | 2021 Watson Street, 2nd Floor | Camden | NJ | 08105 | 150,879 | 25
State of NJ Dept. of Comm. Affairs | 101 South Broad Street | Trenton | NJ | 08625 | 822,684 | 100
Bernalillo County Housing Department | 1900 Bridge Boulevard SW | Albuquerque | NM | 87105 | 161,940 | 25
City of Reno Housing Authority | 1525 E 9th Street | Reno | NV | 89512 | 176,784 | 25
Southern Nevada Regional Housing Authority | 340 North 11th Street | Las Vegas | NV | 89101 | 567,132 | 100
Syracuse Housing Authority | 516 Burt St. | Syracuse | NY | 13202 | 119,592 | 25
New York City Housing Authority | 250 Broadway, Room 912 | New York | NY | 10007 | 2,062,200 | 200
Albany Housing Authority | 200 South Pearl St. | Albany | NY | 12202 | 129,606 | 25
Poughkeepsie Housing Authority | 4 Howard Street | Poughkeepsie | NY | 12601 | 212,520 | 25
Town of Amherst | 1195 Main St., c/o Belmont Shelter Corporation | Buffalo | NY | 14209 | 118,023 | 25
NYS Housing Trust Fund Corporation | 38-40 State Street, 4th Floor North | Albany | NY | 12207 | 513,156 | 50
Columbus Metropolitan Housing Authority | 880 East 11th Ave | Columbus | OH | 43211 | 141,375 | 25
Cuyahoga Metropolitan Housing Authority | 1441 W 25th Street | Cleveland | OH | 44113 | 145,269 | 25
Cincinnati Metropolitan Housing Authority | 16 W Central Parkway | Cincinnati | OH | 45202 | 104,823 | 25
Dayton Metropolitan Housing Authority | 400 Wayne Ave | Dayton | OH | 45401 | 105,501 | 25
Lucas Metropolitan Housing Authority | 435 Nebraska Avenue | Toledo | OH | 43604 | 113,988 | 25
Lorain Metropolitan Housing Authority | 1600 Kansas Avenue | Lorain | OH | 44052 | 150,069 | 25
Portage Metropolitan Housing Authority | 2832 State Route 59 | Ravenna | OH | 44266 | 151,716 | 25
Housing Authority of the City of Oklahoma City | 1700 NE 4th St | Oklahoma City | OK | 73117 | 174,366 | 50
Oklahoma Housing Finance Agency | Oklahoma Housing Finance Agency | Oklahoma City | OK | 73126 | 191,100 | 50
Housing Authority of Portland | 135 SW Ash Street | Portland | OR | 97204 | 297,186 | 50
Housing Authority of Douglas County | 902 West Stanton Street | Roseburg | OR | 97470 | 70,473 | 25
Housing Authority & Comm Svcs of Lane Co | 177 Day Island Road | Eugene | OR | 97401 | 106,482 | 25
Housing Authority of Jackson County | 2251 Table Rock Road | Medford | OR | 97501 | 113,298 | 25
Central Oregon Regional Housing Authority | 405 SW Sixth Street | Redmond | OR | 97756 | 144,600 | 25
Philadelphia Housing Authority | 12 S 23rd Street | Philadelphia | PA | 19103 | 349,392 | 50
Allegheny County Housing Authority | 625 Stanwix Street, 12th Floor | Pittsburgh | PA | 15222 | 100,806 | 25
Harrisburg Housing Authority | 351 Chestnut Street | Harrisburg | PA | 17101 | 113,076 | 25
Housing Authority of the County of Butler | 114 Woody Drive | Butler | PA | 16001 | 47,939 | 10
Housing Authority of the City of Erie | 606 Holland Street | Erie | PA | 16501 | 59,355 | 15
Housing Authority of the County of Chester | 30 W Barnard Street | West Chester | PA | 19382 | 165,159 | 25
Wilkes Barre Housing Authority | 50 Lincoln Plaza, S. Wilkes Barre Blvd | Wilkes Barre | PA | 18702 | 120,780 | 25
Housing Authority Providence | 100 Broad Street | Providence | RI | 02903 | 114,275 | 15
Housing Authority of the City of Charleston | 550 Meeting St | Charleston | SC | 29403 | 137,487 | 25
Housing Authority of the City of Columbia | 1917 Harden Street | Columbia | SC | 29204 | 228,012 | 50
Pennington County Housing and Redevelopment Commission | 1805 W. Fulton St. , Ste 101 | Rapid City | SD | 57702 | 111,933 | 25
Memphis Housing Authority | 700 Adams Avenue | Memphis | TN | 38105 | 232,782 | 50
Johnson City Housing Authority | 901 Pardee Street | Johnson City | TN | 37601 | 87,498 | 25
Knoxville's Community Development Corp. | 901 N Broadway Street | Knoxville | TN | 37917 | 102,291 | 25
Metropolitan Development & Housing Agency | 701 S 6th Street | Nashville | TN | 37206 | 259,038 | 50
Austin Housing Authority | 1124 S Ih 35 | Austin | TX | 78704 | 366,540 | 50
Housing Authority of the City of El Paso, Tx | 5300 E Paisano Drive | El Paso | TX | 79905 | 99,918 | 25
Housing Authority of Fort Worth | 1201 E 13th Street | Fort Worth | TX | 76102 | 150,654 | 25
San Antonio Housing Authority | 818 S Flores Street | San Antonio | TX | 78204 | 528,840 | 125
Corpus Christi Housing Authority | 3701 Ayers Street | Corpus Christi | TX | 78415 | 140,400 | 25
Housing Authority of the City of Dallas, Texas | 3939 N. Hampton Road | Dallas | TX | 75212 | 619,200 | 100
Harlingen Housing Authority | 219 East Jackson Street | Harlingen | TX | 78550 | 99,057 | 25
Housing Authority of the City of Abilene | 534 Cypress Street, Suite #200 | Abilene | TX | 79601 | 59,160 | 25
Harris County Housing Authority | 8933 Interchange | Houston | TX | 77054 | 666,765 | 125
San Angelo Housing Authority | 420 E. 28th Street | San Angelo | TX | 76903 | 132,528 | 25
City of Amarillo | PO Box 1971 | Amarillo | TX | 79101 | 135,849 | 25
Panhandle Community Services | 1309 West 8th | Amarillo | TX | 79101 | 91,233 | 25
Central Texas Council of Governments | 2180 North Main | Belton | TX | 76513 | 127,119 | 25
Athens Housing Authority | 805 N. Palestine St. | Athens | TX | 75751 | 104,853 | 25
Texoma Council of Governments | 1117 Gallagher, Suite 320 | Sherman | TX | 75090 | 114,564 | 25
Housing Authority of the County of Salt Lake | 3595 S Main Street | Salt Lake City | UT | 84115 | 56,700 | 25
Hampton Redevelopment & Housing Authority | 22 Lincoln Street | Hampton | VA | 23669 | 315,330 | 50
Virginia Housing Development Authority | 601 South Belvidere Street | Richmond | VA | 23220 | 187,458 | 25
Vermont State Housing Authority | 1 Prospect Street | Montpelier | VT | 05602 | 91,903 | 15
Seattle Housing Authority | 120 Sixth Avenue North | Seattle | WA | 98109 | 241,514 | 37
HA of King County | 600 Andover Park West | Seattle | WA | 98188 | 293,746 | 38
HA City of Tacoma | 902 S L Street | Tacoma | WA | 98405 | 145,581 | 25
Housing Authority of Snohomish County | 12525 4th Avenue West, Suite 200 | Everett | WA | 98204 | 158,496 | 25
HA City of Walla Walla | 501 Cayuse Street | Walla Walla | WA | 99362 | 105,309 | 25
HA of Chelan County and the City of Wenatchee | 1555 S Methow St | Wenatchee | WA | 98801 | 128,304 | 25
Madison Community Development Authority | 215 Martin Luther King, Jr. Blvd, Rm 120 | Madison | WI | 53703 | 157,557 | 25
Tomah Public Housing Authority | 720 Williams Street | Tomah | WI | 54660 | 78,918 | 25
West Allis HA | 7525 West Greenfield Avenue | West Allis | WI | 53214 | 287,772 | 50
Charleston/Kanawha Housing Authority | PO Box 86 | Charleston | WV | 25321 | 48,599 | 10
Housing Authority of the City of Huntington | 300 7th Avenue West | Huntington | WV | 25701 | 56,209 | 15
Housing Authority of Raleigh County | PO Box 2618 | Beckley | WV | 25802 | 35,742 | 10
Housing Authority of the City of Casper | 1514 E. 12th Street, Suite 105 | Casper | WY | 82601 | 110,685 | 25

APPENDIX B

2011 VASH Set-Aside Recipients
Recipient | Address | City | State | Zip code | Amount | Vouchers
D.C Housing Authority | 1133 N. Capitol Street, NE | Washington | DC | 20002 | $377,928 | 29
Tallahassee Housing Authority | 2940 Grady Road | Tallahassee | FL | 32312 | 416,400 | 50
Housing Authority Providence | 100 Broad Street | Providence | RI | 02903 | 167,503 | 20

[FR Doc. 2012-3834 Filed 2-16-12; 8:45 am]

BILLING CODE 4210-67-P